DEPARTMENT OF ENERGY

Federal Energy Regulatory Commission

[Docket No. EL17-8-000]

Indianapolis Power & Light Company v. Midcontinent Independent System Operator, Inc.; Notice of Complaint

Take notice that on October 21, 2016, pursuant to sections 206 of the Federal Power Act, 16 U.S.C. 824e and Rule 206 of the Federal Energy Regulatory Commission's (Commission) Rules of Practice and Procedure, 18 CFR 385.206, Indianapolis Power & Light Company (IPL or Complainant) filed a formal complaint against Midcontinent Independent System Operator, Inc., (MISO or Respondent) alleging that the Respondent's Open Access Transmission, Energy and Operating Reserve Markets Tariff is unjust and unreasonable, unduly discriminatory and preferential because it does not provide a means for IPL's Advancion® Energy Storage Array, a.k.a. the Harding Street Station Battery Energy Storage System to be compensated for services it provides to the MISO system, including Primary Frequency Response, as more fully explained in the complaint.

Complainant certifies that copies of the complaint were served on the contacts for Respondent as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 10, 2016.

Dated: October 25, 2016.
Kimberly D. Bose,
Secretary.

[FR Doc. 2016-26186 Filed 10-28-16; 8:45 am]

BILLING CODE 6717-01-P